DEPARTMENT OF HEALTH AND HUMAN SERVICES

National Institutes of Health

Center for Scientific Review; Amended Notice of Meeting

Notice is hereby given of a change in the meeting of the Center for Scientific Review Special Emphasis Panel, July 11, 2005, 8 a.m. to July 12, 2005, 5 p.m., Hyatt Regency Bethesda, One Bethesda Metro Center, 7400 Wisconsin Avenue, Bethesda, MD, 20814 which was published in the Federal Register on June 22, 2005, 70 FR 36195-36197.

The meeting title has been changed to “ZRG1 ONC-T (10) B: Cancer Drug Development and Therapeutics SBIR”.

The meeting is closed to the public.

LaVerne Y. Stringfield,
Director, Office of Federal Advisory Committee Policy.

[FR Doc. 05-13450 Filed 7-7-05; 8:45 am]

BILLING CODE 4140-01-M